INTER-AMERICAN FOUNDATION

Sunshine Act Meetings

TIME AND DATE:

February 16, 2022, 10:00 a.m.-10:30 a.m. ET.

February 17, 2022, 12:30 p.m.-2.30 p.m. ET.

PLACE: Via tele-conference.

STATUS: Meeting of the IAF Board of Directors, closed to the public as provided for by 22 CFR 1004.4(b)

MATTERS TO BE CONSIDERED:

Executive Session

CONTACT PERSON FOR MORE INFORMATION: Aswathi Zachariah, General Counsel, (202) 683-7118.

For Dial-in Information Contact: Denetra McPherson, Paralegal, (202) 688-3054.

The Inter-American Foundation is holding this meeting under the Government in the Sunshine Act, 5 U.S.C. 552(b).

Aswathi Zachariah,
General Counsel.

[FR Doc. 2022-03009 Filed 2-8-22; 4:15 pm]

BILLING CODE 7025-01-P